ENVIRONMENTAL PROTECTION AGENCY

[FRL-10005-01-OMS]

Privacy Act of 1974; System of Records

AGENCY: Office of Mission Support, Environmental Protection Agency (EPA).

ACTION: Notice of a Modified System of Records.

SUMMARY: The U.S. Environmental Protection Agency's (EPA) Office of Air and Radiation, Office of Transportation and Air Quality (OTAQ), is giving notice that it proposes to modify the Engines and Vehicles—Compliance Information System (EV-CIS), EPA-65 system of records pursuant to the provisions of the Privacy Act of 1974. Engines and Vehicles—Compliance Information System (EV-CIS) is being modified to change the location of the electronic files. This system of records contains personally identifiable information (PII) collected from owners of motor vehicles who wish to temporarily import their vehicle into the United States for personal use and who are not residents of the United States.

DATES: Persons wishing to comment on this system of records notice must do so by March 16, 2020. [New/Modified] routine uses for this [new/modified] system of records will be effective March 16, 2020.

ADDRESSES: Submit your comments, identified by Docket ID No. OMS-2019-0149, by one of the following methods:

Regulations.gov: www.regulations.gov Follow the online instructions for submitting comments.

Email: oei.docket@epa.gov.

Fax: 202-566-1752.

Mail: OMS Docket, Environmental Protection Agency, Mailcode: 2822T, 1200 Pennsylvania Ave. NW, Washington, DC 20460.

Hand Delivery: OMS Docket, EPA/DC, WJC West Building, Room 3334, 1301 Constitution Ave. NW, Washington, DC. Such deliveries are only accepted during the Docket's normal hours of operation, and special arrangements should be made for deliveries of boxed information.

Instructions: Direct your comments to Docket ID No. OMS-2019-0149. The EPA's policy is that all comments received will be included in the public docket without change and may be made available online at www.regulations.gov, including any personal information provided, unless the comment includes information claimed to be Controlled unclassified Information (CUI) or other information for which disclosure is restricted by statute. Do not submit information that you consider to be CUI or otherwise protected through www.regulations.gov. The www.regulations.gov website is an “anonymous access” system for EPA, which means the EPA will not know your identity or contact information unless you provide it in the body of your comment. However, over 179 federal agencies use www.regulations.gov and some may require Personally Identifiable Information (PII) and some may not. Each agency determines submission requirements within their own internal processes and standards. EPA has no requirement of personal information. If you send an email comment directly to the EPA without going through www.regulations.gov your email address will be automatically captured and included as part of the comment that is placed in the public docket and made available on the internet. If you submit an electronic comment, the EPA recommends that you include your name and other contact information in the body of your comment. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/epahome/dockets.htm.

Docket: All documents in the docket are listed in the www.regulations.gov index. Although listed in the index, some information is not publicly available, e.g., CUI or other information for which disclosure is restricted by statute. Certain other material, such as copyrighted material, will be publicly available only in hard copy. Publicly available docket materials are available either electronically in www.regulations.gov or in hard copy at the OMS Docket, EPA/DC, WJC West Building, Room 3334, 1301 Constitution Ave. NW, Washington, DC. The Public Reading Room is open from 8:30 a.m. to 4:30 p.m., Monday through Friday excluding legal holidays. The telephone number for the Public Reading Room is (202) 566-1744, and the telephone number for the OMS Docket is (202) 566-1752.

FOR FURTHER INFORMATION CONTACT: Holly Pugliese, Compliance Division, Office of Transportation and Air Quality, U.S. Environmental Protection Agency, 2000 Traverwood, Ann Arbor, Michigan 48105; telephone number: 734-214-4288; fax number: 734-214-4869; email address: pugliese.holly@epa.gov.

SUPPLEMENTARY INFORMATION: The U.S. Environmental Protection Agency (EPA) is amending the Engine and Vehicle Exemptions System (EV-ES) of records. The system name is being changed from EV-ES to the Engines and Vehicles—Compliance Information System (EV-CIS). EV-ES is a subsystem of the EV-CIS and is the only subsystem that stores personally identifiable information (PII). The location of the files has changed and are now stored in Research Triangle Park, NC. No other elements of the systems of records has changed.

The information collected in this system supports the Imports Exemptions program under the Clean Air Act (CAA) and implementing regulations codified in 40 CFR parts 85 and 1068. The CAA requires manufacturers of motor vehicles and engines to design and build vehicles that will comply with emissions standards throughout the vehicle's life span. EPA and Customs and Border Protection (CBP) regulations (40 CFR part 85 and 19 CFR 12.73) allow for individuals who are not residents of the United States and who reside outside of the United States to import on-highway vehicles that do not comply with U.S. emissions standards (e.g., cars, motorcycles or motor homes) for a period of up to one year for personal use. Applicants are required to provide their name, address, phone number or email and the vehicle identification number (VIN) as part of the application process in order for EPA to provide approval or denial letters to the requestors.

The information that will be maintained regarding program participants includes the vehicle owner's name, address, phone number, email address and vehicle identification number (VIN). The electronic information is contained in the EV-CIS system located in Research Triangle Park, North Carolina and paper files at EPA's National Vehicle and Fuel Emissions Laboratory in Ann Arbor, Michigan. Only contractor employees and EPA employees administering the program have access to the information contained in the database. Files containing personal information are kept in locked filing cabinets. Physical access to the filing cabinets is limited to authorized personnel employees with building key cards.

SYSTEM NAME AND NUMBER:

Engines and Vehicles—Compliance Information System (EV-CIS), EPA-65

SECURITY CLASSIFICATION:

Unclassified.

SYSTEM LOCATION:

US EPA, 109 T.W. Alexander Drive, Research Triangle Park, NC 27711 and EPA's National Vehicle and Fuel Emissions Laboratory in Ann Arbor, Michigan.

SYSTEM MANAGER(S):

Sara Zaremski, Center Director, Data Analysis and Information Center, Office of Transportation and Air Quality, 2000 Traverwood, Ann Arbor, MI 48105, 734-214-4362, zaremski.sara@epa.gov.

HISTORY:

79 FR 29761 (May 23, 2014)—Engine and Vehicle Exemptions System (EV-ES). Creation of a Privacy Act system of records for the Engine and Vehicle Exemptions System (EV-ES). The information collected in this system supports the Imports Exemptions program under the Clean Air Act (CAA) and implementing regulations codified in 40 CFR parts 85 and 1068.

Dated: January 21, 2020.
Vaughn Noga,
Senior Agency Official for Privacy.

[FR Doc. 2020-02891 Filed 2-12-20; 8:45 am]

BILLING CODE 6560-50-P